FEDERAL RESERVE SYSTEM

Formations of, Acquisitions by, and Mergers of Bank Holding Companies; Correction

This notice corrects a notice (FR Doc.76-1979) published on page 1979 of the issue for Tuesday, January 15, 2002.

Under the Federal Reserve Bank of Boston heading, the entry for James J. Mawn, Gloucester, Massachusetts, is revised to read as follows:

A. Federal Reserve Bank of Boston (Richard Walker, Community Affairs Officer) 600 Atlantic Avenue, Boston, Massachusetts 02106-2204:

2. James J. Mawn, Gloucester, Massachusetts, Rita M. Mawn, Naples, Florida, Rita M. Barger, Manlius, New York, Sheila E. Carpenter, San Antonio, Texas, James J. Mawn, Jr., Charlestown, Massachusetts, Alicia J. Mawn-Mahlau and Sam A. Mawn-Mahlau, both of Winchester, Massachusetts, Louise S. McDonough, and Mary E. Negri, both of Woburn, Massachusetts, Mary Catherine Riley, Princeton, New Jersey, Marilyn C. Mawn, Boston, Massachusetts, and the Mawn Family Limited Partnership, Woburn, Massachusetts (James J. Mawn, Jr. and Marilyn C. Mawn, general partners), acting in concert to acquire voting shares of Northern Bancorp, Inc., Woburn, Massachusetts, and thereby indirectly acquire Northern Bank and Trust Company, Woburn, Massachusetts.

Comments on this application must be received by March 1, 2002.

Board of Governors of the Federal Reserve System, February 11, 2002.
Robert deV. Frierson,
Deputy Secretary of the Board.

[FR Doc. 02-3700 Filed 2-14-02; 8:45 am]

BILLING CODE 6210-01-S